DEPARTMENT OF HEALTH AND HUMAN SERVICES

National Institutes of Health

National Cancer Institute; Notice of Meeting

Pursuant to section 10(d) of the Federal Advisory Committee Act, as amended (5 U.S.C. appendix 2), notice is hereby given of a meeting of the President's Cancer Panel.

The meeting will be open to the public as indicated below, with attendance limited to space available. Individuals who plan to attend and need special assistance, such as sign language interpretation or other reasonable accommodations, should notify the Contact Person listed below in advance of the meeting.

The meeting will be closed to the public in accordance with the provisions set forth in section 552b(c)(9)(B), Title 5 U.S.C., as amended because the premature disclosure of other and the discussions would likely to significantly frustrate implementation of recommendations.

Name of Committee: President's Cancer Panel.

Date: January 5-6, 2004.

Open: January 5, 2004, 8 a.m. to 3:15 p.m.

Agenda: Living Beyond Cancer: Survivorship Issues and Challenges Among Older Adult Cancer Survivors.

Place: Lowes Philadelphia Hotel, 1200 Market Street, Philadelphia, PA 19107.

Open: January 5, 2004, 7 p.m. to 9 p.m.

Agenda: Town Hall Meeting.

Place: Lowes Philadelphia Hotel, 1200 Market Street, Philadelphia, PA 19107.

Closed: January 6, 2004, 9 a.m. to 12 p.m.

Agenda: To review and evaluate the Panel will supplement its public hearings with discussion of prepublication manuscripts on adult cancer survivorship.

Place: Lowes Philadelphia Hotel, 1200 Market Street, Philadelphia, PA 19107.

Contact Person: Maureen O. Wilson, PhD, Executive Secretary, National Cancer Institute, National Institutes of Health, 31 Center Drive, Building 31, Room 3A18, Bethesda, MD 20892, 301/496-1148.

Any interested person may file written comments with the committee by forwarding the statement to the Contact Person listed on this notice. The statement should include the name, address, telephone number and when applicable, the business or professional affiliation of the interested person.

Information is also available on the Institute's/Center's home page: http://www.deainfo.nci.nih.gov/advisory/pcp/pcp.htm, where an agenda and any additional information for the meeting will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: December 8, 2003.
Anna P. Snouffer,
Acting Director, Office of Federal Advisory Committee Policy.

[FR Doc. 03-30818 Filed 12-11-03; 8:45 am]

BILLING CODE 4140-01-M